DEPARTMENT OF THE INTERIOR

Bureau of Reclamation

Klamath Hydroelectric Settlement Agreement, Including Secretarial Determination on Whether to Remove Four Dams on the Klamath River in California and Oregon

AGENCY: Department of the Interior.

ACTION: Notice of intent to prepare an Environmental Impact Statement/Environmental Impact Report (EIS/EIR) and notice of public scoping meetings.

SUMMARY: Pursuant to the National Environmental Policy Act of 1969 (NEPA), as amended, and the California Environmental Quality Act (CEQA), the Department of the Interior (Department), through the Bureau of Reclamation (Reclamation), and the California Department of Fish and Game (CDFG) intend to prepare an EIS/EIR. The Department and CDFG will conduct public scoping meetings to solicit comments concerning the issues, alternatives, and analyses to be considered in the evaluation of whether to remove four dams on the Klamath River pursuant to the terms of the Klamath Hydroelectric Settlement Agreement (KHSA). Section 3.3.1 of the KHSA states: “Based upon the record, environmental compliance and other actions described in Section 3.2, and in cooperation with the Secretary of Commerce and other Federal agencies as appropriate, the Secretary shall determine whether, in his judgment, the conditions of Section 3.3.4 have been satisfied, and whether, in his judgment, Facilities Removal (i) will advance restoration of the salmonid fisheries of the Klamath Basin, and (ii) is in the public interest, which includes but is not limited to consideration of potential impacts on affected local communities and Tribes.”

In light of this potential determination by the Secretary of the Interior (Secretary) pursuant to the KHSA, the public and agencies are invited to comment on the scope of the EIS/EIR and potential alternatives including, but not limited to: (1) How other potential actions within the KHSA should be analyzed in this EIS/EIR, and (2) the nature and extent to which the potential environmental impacts of implementing the Klamath Basin Restoration Agreement (KBRA) should be analyzed in this EIS/EIR.

DATES: Written comments on the scope of the EIS/EIR and potential alternatives to be analyzed are requested within 30 days of the publication of this notice. Oral comments will also be accepted during the public scoping meetings. Please see the Supplementary Information section for public scoping meeting dates and locations.

ADDRESSES: Please send written comments to Ms. Tanya Sommer, Bureau of Reclamation, 2800 Cottage Way, Sacramento, CA 95825, or by e-mail to KlamathSD@usbr.gov. Written comments may also be submitted during the public scoping meetings. Please see the Supplementary Information section for meeting locations and dates.

FOR FURTHER INFORMATION CONTACT: Ms. Tanya Sommer, Bureau of Reclamation, 916-978-6153, TSommer@usbr.gov, for technical information. For public involvement information, please contact Mr. Matt Baun, U.S. Fish and Wildlife Service, 530-841-3119, Matt_Baun@fws.gov.

SUPPLEMENTARY INFORMATION:

Background

Conflicts over water and other natural resources in the Klamath Basin between conservationists, tribes, farmers, fishermen, and State and Federal agencies have existed for decades. In particular, several developments affecting the Klamath Basin have occurred in the last several years. These developments include:

—In 2001, water deliveries to irrigation contractors to Reclamation's Klamath Project were substantially reduced.

—In 2002, returning adult salmon suffered a major die-off.

—In 2006, the commercial salmon fishing season was closed along 700 miles of the West Coast to protect weak Klamath River stocks.

—In 2010, due to drought conditions, the project is forecasting a curtailment of deliveries that could result in the potential short-term idling of farmland and increased groundwater pumping.

—In 2010, the c'waam (Lost River suckers) fishery for the Klamath Tribes has been closed for the 24th year, limiting the Tribes to only a ceremonial harvest.

Since 2003, the United States has spent over $500 million in the Klamath Basin for irrigation, fisheries, National Wildlife Refuges, and other resource enhancements and management actions. Consequently, the United States, the States of California and Oregon, the Klamath, Karuk, and Yurok Tribes, Klamath Project Water Users, and other Klamath River Basin stakeholders negotiated the KBRA and the KHSA (including the Secretarial Determination) to resolve long-standing disputes between them regarding a broad range of natural resource issues. The agreements are intended to result in effective and durable solutions which: (1) Restore and sustain natural fish production and provide for full participation in ocean and river harvest of fish species throughout the Klamath Basin; (2) establish reliable water and power supplies which sustain agricultural uses, communities, and National Wildlife Refuges; and (3) contribute to the public welfare and the sustainability of all Klamath Basin communities. It is the conclusion of the United States that in order to reach these goals, both agreements must be authorized and implemented.

Ongoing programs that may be expanded include habitat restoration and fish population monitoring activities being conducted by Federal, Tribal, and State governments and agencies, fish disease research activities, continued implementation of Reclamation's Pilot Water Bank Program, and programs to improve fish passage and screen irrigation diversions.

New programs that may be established by the KBRA include a Fisheries Restoration Plan, Fisheries Reintroduction Plan, Fisheries Monitoring Plan, Water Diversion Limitation and Pumping Plan, Water Rights Purchase Plan, Drought Plan, Environmental Water Plan, Counties' Impacts-Mitigation and Benefits Program, Tribal Programs, establishment of wildlife refuge water allocation, and additional water conservation and storage actions.

The KHSA lays out the process for additional studies, environmental review, and a decision by the Secretary regarding whether removal of four dams owned by PacifiCorp: (1) Will advance the restoration of the salmonid fisheries of the Klamath Basin, and (2) is in the public interest, which includes, but is not limited to, consideration of potential impacts on affected local communities and tribes.

Purpose and Need and Proposed Action

The purpose of the proposed Federal action is to advance restoration of the salmonid fisheries in the Klamath Basin that is in the public interest, and is consistent with the KHSA and the KBRA. Pursuant to the KHSA, the Secretary needs to make a determination whether to proceed with the removal of the four PacifiCorp Dams on the Klamath River. The proposed action is to make a determination, pursuant to the KHSA, as to whether removal of the four lower dams on the Klamath River to achieve a free-flowing condition and allow full volitional passage of fish is in the public interest, will advance restoration of the salmonid fishery and is consistent with statutory obligations and tribal rights. The potential impacts of any connected actions, including any such actions under the KBRA, will be analyzed.

Environmental Issues and Resources To Be Examined

The EIS/EIR will be used to inform the Secretary when making his decision regarding implementation of the KHSA and any potential follow-on programs that may be implemented as part of the KBRA. If, pursuant to the KHSA, the Secretary's decision is affirmative, the EIS/EIR will be used by the Governors of the States of California and Oregon to inform each whether to concur in that determination. The EIS/EIR will include analysis and disclosures of the effects on the quality of the human and physical environment that may occur as a result of implementation of the KHSA and any potential follow-on programs including those programs in the KBRA. Issues to be addressed may include, but are not limited to, impacts on biological resources, historic and archaeological resources, geomorphology, hydrology, water quality, air quality, safety, hazardous materials and waste, visual resources, socioeconomics, including real estate, and environmental justice.

Public Scoping Sessions

The Department and CDFG will hold six public information and scoping meetings according to the dates and locations listed below. Oral and written comments will be accepted at the public meetings.

Dates, Times, and Locations:

• Wednesday, July 7, 2010, 10 a.m. to 1 p.m., Copco Community Center, 27803 Copco Road, Montague, CA 96064.

• Wednesday, July 7, 2010, 6 p.m. to 9 pm, Yreka Community Center, 810 N. Oregon Street, Yreka, CA 96097.

• Thursday, July 8, 2010, 6 p.m. to 9 p.m., Klamath County Fairgrounds, 3531 S. 6th Street, Klamath Falls, OR 97603.

• Friday, July 9, 2010, 6 p.m. to 9 p.m., Chiloquin Community Center, 140 First Street, Chiloquin, OR 97624.

• Tuesday, July 13, 2010, 6 p.m. to 9 p.m., Chetco Activities Center, 550 Chetco Way, Brookings, OR 97415.

• Wednesday, July 14, 2010, 6 p.m. to 9 p.m., Arcata Community Center, 321 Community Park Way, Arcata, CA 95521.

• Thursday July 15, 2010, 6 p.m. to 9 p.m., Karuk Tribe Community Room, 39051 Highway 96, Orleans, CA 95556.

Public Disclosure

Before including your name, address, phone number, e-mail address, or other personal identifying information in your comment, please be aware that your entire comment—including your personal identifying information—may be made publicly available at any time. While you can ask us in your comment to withhold your personal identifying information from public review, we cannot guarantee that we will be able to do so.

Dated: June 7, 2010.
Dennis Lynch,
Program Manager, Klamath Basin Secretarial Determination.

[FR Doc. 2010-14174 Filed 6-11-10; 8:45 am]

BILLING CODE 4310-MN-P